COMMITTEE FOR PURCHASE FROM PEOPLE WHO ARE BLIND OR SEVERELY DISABLED

Procurement List; Addition and Deletion

AGENCY: Committee for Purchase from People Who Are Blind or Severely Disabled.

ACTION: Addition to and Deletion from the Procurement List.

SUMMARY: This action adds to the Procurement List a service to be furnished by nonprofit agencies employing persons who are blind or have other severe disabilities, and deletes from the Procurement List a product previously furnished by such agencies.

DATES: Effective Date: June 17, 2007.

ADDRESSES: Committee for Purchase From People Who Are Blind or Severely Disabled, Jefferson Plaza 2, Suite 10800, 1421 Jefferson Davis Highway, Arlington, VA 22202-3259

For Further Information Or To Submit Comments Contact: Kimberly M. Zeich, Telephone: (703) 603-7740, Fax: (703) 603-0655, or e-mail CMTEFedReg@jwod.gov.

Addition

On March 23, 2007, the Committee for Purchase From People Who Are Blind or Severely Disabled published notice (72 FR 13741) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following service is added to the Procurement List:

Service

Service Type/Location: Grounds Maintenance,

Eglin Air Force Base,

East of Memorial Trail (excluding airfield) and its ranges,

Duke Field,

Ranger Camp,

Navy EOD,

Site C-6,

Eglin AFB, FL.

NPA: PRIDE Industries, Inc., Roseville, CA.

Contracting Activity: AFMC-Eglin, Eglin AFB, FL.

Deletion

On February 23, 2007, the Committee for Purchase From People Who Are Blind or Severely Disabled published notice (72 F.R.8149) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following product is deleted from the Procurement List:

Product

Credenza:

NSN: 7110-00-762-5513—Credenza.

NPA: UNKNOWN.

Contracting Activity: GSA, National Furniture Center, Arlington, VA.

Patrick Rowe,
Deputy Executive Director.

[FR Doc. E7-9594 Filed 5-17-07; 8:45 am]

BILLING CODE 6353-01-P